DEPARTMENT OF HOMELAND SECURITY

Federal Emergency Management Agency

[Docket ID: FEMA-2015-0013; OMB No. 1660-0008]

Agency Information Collection Activities: Proposed Collection; Comment Request; Elevation Certificate/Floodproofing Certificate

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the National Flood Insurance Program Elevation Certificate and Flood proofing Certificate for Non-Residential Structures.

DATES: Comments must be submitted on or before July 27, 2015.

ADDRESSES: To avoid duplicate submissions to the docket, please use only one of the following means to submit comments:

(1) Online. Submit comments at www.regulations.gov under Docket ID FEMA-2015-0013. Follow the instructions for submitting comments.

(2) Mail. Submit written comments to Docket Manager, Office of Chief Counsel, DHS/FEMA, 500 C Street SW., Room 8NE, Washington, DC 20472-3100.

(3) Facsimile. Submit comments to (202) 212-4701.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Mary Chang, Insurance Examiner, FEMA, (202) 212-4701. You may contact the Records Management Division for copies of the proposed collection of information at facsimile number (202) 212-4701 or email address: FEMA-Information-Collections-Management@fema.dhs.gov.

SUPPLEMENTARY INFORMATION: Communities participating in the National Flood Insurance Program (NFIP) are required to adopt a floodplain management ordinance that meets or exceeds the minimum floodplain management requirements of the NFIP. In accordance with FEMA's minimum floodplain management criteria, communities must require that all new construction and substantial improvement of residential structures and non-residential structures have the lowest floor (including basement) elevated to above the base flood elevation, unless, for residential structures, the community is granted an exception by FEMA for the allowance of basements under 44 CFR 60.6(b) or (c). 44 CFR 60.3(c)(2) and (3)(i). New construction and substantial improvement of non-residential structures can also be floodproofed so that together with attendant utility and sanitary facilities are designed so that below the base flood level the structure is watertight with walls substantially impermeable to the passage of water and with structural components having the capability to resist hydrostatic and hydrodynamic loads and effects of buoyancy. 44 CFR 60.3(c)(3)(ii). The Elevation Certificate and Floodproofing Certificate is one convenient way for a community to document building compliance. Title 44 CFR 61.7 and 61.8 require proper investigation to estimate the risk premium rates necessary to provide flood insurance.

Collection of Information

Title: Elevation Certificate/Floodproofing Certificate.

Type of Information Collection: Revision of a currently approved information collection.

OMB Number: 1660-0008.

FEMA Forms: FEMA Form 086-0-33, Elevation Certificate and FEMA Form 086-0-34, Flood proofing Certificate.

Abstract: The Elevation Certificate and Flood proofing Certificate and used in conjunction with the flood insurance application to rate Post-FIRM building in Special Flood Hazard Areas. Post-FIRM buildings are buildings constructed after the publication of the initial Flood Insurance Rate Map (FIRM) for the community. The Elevation Certificate and Flood proofing Certificate is also a convenient way for a NFIP participating community to document building compliance with FEMA's minimum floodplain management criteria.

Affected Public: Individuals or households; Business or other for-profit; Not-for-profit institutions; Farms, State, Local or Tribal government.

Number of Respondents: 9,322.

Number of Responses: 9,322.

Estimated Total Annual Burden Hours: 34,950.

Estimated Cost: The estimated annual cost to respondents operations and maintenance costs for technical services is $3,262,700. There are no annual start-up or capital costs.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 15, 2015.
Janice P. Waller,
Acting Director, Records Management Division, Mission Support, Federal Emergency Management Agency, Department of Homeland Security.

[FR Doc. 2015-12558 Filed 5-22-15; 8:45 am]

BILLING CODE 9110-11-P